SMALL BUSINESS ADMINISTRATION

[Disaster Declaration #11641 and #11642]

Washington Disaster Number WA-00019

AGENCY: U.S. Small Business Administration.

ACTION: Amendment 1.

SUMMARY: This is an amendment of the Presidential declaration of a major disaster for the State of Washington (FEMA-1817-DR), dated 01/30/2009.

Incident: Severe Winter Storm, Landslides, Mudslides, and Flooding.

Incident Period: 01/06/2009 through 01/16/2009.

Effective Date: 02/06/2009.

Physical Loan Application Deadline Date: 03/31/2009.

EIDL Loan Application Deadline Date: 10/30/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Washington, dated 01/30/2009 is hereby amended to include the following areas as adversely affected by the disaster:

Primary Counties: (Physical Damage and Economic Injury Loans):

Benton, Clallam, Cowlitz, Grays Harbor, Kittitas, Skagit, Whatcom.

Contiguous Counties: (Economic Injury Loans Only):

Washington: Clark, Douglas, Franklin, Grant, Klickitat, Okanogan, Walla Walla.

Oregon: Morrow, Umatilla.

All other information in the original declaration remains unchanged.

(Catalog of Federal Domestic Assistance Numbers 59002 and 59008)

Herbert L. Mitchell,
Associate Administrator for Disaster Assistance.

[FR Doc. E9-3149 Filed 2-12-09; 8:45 am]

BILLING CODE 8025-01-P